CONSUMER PRODUCT SAFETY COMMISSION

Submission for OMB Review; Comment Request—Residential Fire Survey

AGENCY: Consumer Product Safety Commission.

ACTION: Notice.

SUMMARY: In the April 16, 2003, Federal Register (68 FR 18599), the Consumer Product Safety Commission (Commission or CPSC) published a notice in accordance with provisions of the Paperwork Reduction Act of 1995 (44 U.S.C. 3501-21) to announce the agency's intention to seek approval of a collection of information to evaluate (1) the causes of residential fires and (2) the role of smoke alarms, sprinklers, and fire extinguishers in those fires. The Commission now announces that it is submitting to the Office of Management and Budget a request for approval of that collection of information.

The collection of information consists of a random digit dialing telephone survey to identify households that had a fire within the previous three months. Data collection will take place over a 12-month period and will identify consumer products involved in fire causes. The information will help CPSC and its federal partners, the U.S. Fire Administration and the Centers for Disease Control and Prevention, to focus efforts to reduce residential fire losses.

Additional Information About the Request for Approval of a Collection of Information

Agency address: Consumer Product Safety Commission, Washington, DC 20207.

Title of information collection: Residential Fire Survey.

Type of request: Approval of a collection of information.

General description of respondents: Households that have had a fire within the previous three months.

Estimated number of respondents: 82,000.

Estimated average number of hours per respondent: 0.05 hours (3 minutes).

Estimated number of hours for all respondents: 4,400 hours.

Comments: Comments on this request for approval of an information collection should be sent within 30 days of publication of this notice to (1) Alex Hunt, Desk Officer, Office of Information and Regulatory Affairs, Office of Management and Budget, Washington, DC 20503; telephone: (202) 395-7860, and (2) the Office of the Secretary, Consumer Product Safety Commission, Washington, DC 20207.

Copies of this request for approval of an information collection and supporting documentation are available from Linda Glatz, Office of Planning and Evaluation, Consumer Product Safety Commission, Washington, DC 20207; telephone: (301) 504-7671, e-mail lglatz@cpsc.gov.

Dated: February 23, 2004.
Todd A. Stevenson,
Secretary, Consumer Product Safety Commission.

[FR Doc. 04-4414 Filed 2-27-04; 8:45 am]

BILLING CODE 6355-01-P